DEPARTMENT OF DEFENSE

Department of the Air Force

Withdrawal of the Notice of Intent To Prepare an Environmental Impact Statement for the Modification of the Condor 1 and Condor 2 Military Operations Areas Used By the 104th Fighter Wing of the Massachusetts Air National Guard

AGENCY: Department of the Air Force, DoD.

ACTION: Withdrawal of Notice of Intent.

SUMMARY: The Air National Guard (ANG) and Federal Aviation Administration (FAA) are notifying interested parties of the decision to withdraw the Notice of Intent to prepare an environmental impact statement for the Modification of the Condor Military Operation Areas used by the 104th Fighter Wing of the Massachusetts Air National Guard.

FOR FURTHER INFORMATION CONTACT: For questions regarding this notice please contact: Mr Ramon Ortiz, NGB/A4AM, Program Manager-Technical Lead, Air National Guard Readiness Center, 3501 Fetchet Avenue, Andrews AFB, MD 20762-9157, telephone: (240) 612-7042; or email: usaf.jbanafw.ngb-a4.mbx.a4a-nepa-comments@mail.mil.

SUPPLEMENTARY INFORMATION: The original NOI was published on June 17, 2009 and corrected on June 25, 2009 (74 FR 30284), and followed an in-depth Environmental Assessment process initiated in 2008. The ANG decision to withdraw the NOI was based on the determination that due to mission evolution, the proposed action is no longer needed.

Adriane S. Paris,
Acting Air Force Federal Register Liaison Officer.

[FR Doc. 2019-21873 Filed 10-7-19; 8:45 am]

BILLING CODE 5001-05-P